DEPARTMENT OF ENERGY

Federal Energy Regulatory Commission

Combined Notice of Filings #1

Take notice that the Commission received the following electric corporate filings:

Docket Numbers: EC23-26-000.

Applicants: EdSan 1B Group 1 Edwards, LLC, EdSan 1B Group 1 Sanborn, LLC, EdSan 1B Group 2, LLC, EdSan 1B Group 3, LLC, Daylight I, LLC, Edwards Solar Line I, LLC, Sanborn Solar Line I, LLC, Axium ES Holdings LLC.

Description: Supplement to November 10, 2022 Joint Application for Authorization Under Section 203 of the Federal Power Act of EdSan 1B Group 1 Edwards, LLC, et al.

Filed Date: 12/13/22.

Accession Number: 20221213-5191.

Comment Date: 5 p.m. ET 1/3/23.

Docket Numbers: EC23-38-000.

Applicants: Pacific Gas and Electric Company.

Description: Application for Authorization Under Section 203 of the Federal Power Act of Pacific Gas and Electric Company.

Filed Date: 12/13/22.

Accession Number: 20221213-5190.

Comment Date: 5 p.m. ET 1/3/23.

Docket Numbers: EC23-39-000.

Applicants: DTE Electric Company.

Description: Joint Application for Authorization Under Section 203 of the Federal Power Act of DTE Electric Company.

Filed Date: 12/13/22.

Accession Number: 20221213-5193.

Comment Date: 5 p.m. ET 1/27/23.

Docket Numbers: EC23-40-000.

Applicants: Bloom Energy Corporation, Yellow Jacket Energy, LLC,2015 ESA Project Company, LLC.

Description: Joint Application for Authorization Under Section 203 of the Federal Power Act of Bloom Energy Corporation, et al.

Filed Date: 12/14/22.

Accession Number: 20221214-5115.

Comment Date: 5 p.m. ET 1/4/23.

Take notice that the Commission received the following Complaints and Compliance filings in EL Dockets:

Docket Numbers: EL23-16-000.

Applicants: RENEW Northeast, Inc. v. ISO New England, Inc. and New England Participating Transmission Owners

Description: Complaint of RENEW Northeast, Inc.

Filed Date: 12/13/22.

Accession Number: 20221213-5186.

Comment Date: 5 p.m. ET 1/3/23.

Take notice that the Commission received the following electric rate filings:

Docket Numbers: ER15-2013-014; ER15-2020-009; ER19-2250-006; ER22-1418-002.

Applicants: Trailstone Renewables, LLC, TrailStone Energy Marketing, LLC ,Talen Montana, LLC, Talen Energy Marketing, LLC.

Description: Updated Market Power Analysis for Northwest Region of Talen Energy Marketing, LLC, et al.

Filed Date: 12/14/22.

Accession Number: 20221214-5113.

Comment Date: 5 p.m. ET 1/4/23.

Docket Numbers: ER18-1182-003.

Applicants: System Energy Resources, Inc.

Description: Compliance filing: SERI Part Settlement Compliance (ER23-435 and EL2-72) to be effective 10/1/2022.

Filed Date: 12/13/22.

Accession Number: 20221213-5162.

Comment Date: 5 p.m. ET 1/3/23.

Docket Numbers: ER23-298-000.

Applicants: Southern Maryland Electric Cooperative, Inc., PJM Interconnection, L.L.C.

Description: Filing Withdrawal: Southern Maryland Electric Cooperative, Inc. submits tariff filing per 35.17(a): Withdrawal of SMECO Revisions in ER23-298 to be effective N/A.

Filed Date: 12/14/22.

Accession Number: 20221214-5064.

Comment Date: 5 p.m. ET 1/4/23.

Docket Numbers: ER23-341-000.

Applicants: Concurrent LLC.

Description: Supplement to Application for Market-Based Rate Authority to November 1, 2022, Concurrent, LLC tariff filing.

Filed Date: 12/13/22.

Accession Number: 20221213-5196.

Comment Date: 5 p.m. ET 12/23/22.

Docket Numbers: ER23-435-002.

Applicants: System Energy Resources, Inc.

Description: Compliance filing: SERI MPSC Settlement Compliance (ER18-1182, et al.) to be effective 7/1/2022.

Filed Date: 12/13/22.

Accession Number: 20221213-5161.

Comment Date: 5 p.m. ET 1/3/23.

Docket Numbers: ER23-623-000.

Applicants: Moss Landing Energy Storage 3, LLC.

Description: Baseline eTariff Filing: SFA 1,2,3 and Luminant COC filing new to be effective 12/14/2022.

Filed Date: 12/13/22.

Accession Number: 20221213-5133.

Comment Date: 5 p.m. ET 1/3/23.

Docket Numbers: ER23-624-000.

Applicants: Moss Landing Energy Storage 2, LLC.

Description: § 205(d) Rate Filing: SFA 1,2,3 and Luminant COC filing to be effective 12/14/2022.

Filed Date: 12/13/22.

Accession Number: 20221213-5134.

Comment Date: 5 p.m. ET 1/3/23.

Docket Numbers: ER23-625-000.

Applicants: System Energy Resources, Inc.

Description: § 205(d) Rate Filing: SERI UPSA AFUDC Update to be effective 1/1/2023.

Filed Date: 12/14/22.

Accession Number: 20221214-5000.

Comment Date: 5 p.m. ET 1/4/23.

Docket Numbers: ER23-626-000.

Applicants: Dominion Energy South Carolina, Inc.

Description: Dominion Energy South Carolina, Inc. submits Petition for Waiver of certain provisions in the Power Supply Agreement with the City of Orangeburg.

Filed Date: 12/12/22.

Accession Number: 20221212-5246.

Comment Date: 5 p.m. ET 1/2/23.

Docket Numbers: ER23-627-000.

Applicants: New England Power Company.

Description: New England Power Company Submits Notice of Cancellation of Local Service Agreement with Sterling Municipal Electric Department.

Filed Date: 12/9/22.

Accession Number: 20221209-5237.

Comment Date: 5 p.m. ET 12/30/22.

Docket Numbers: ER23-628-000.

Applicants: Bellflower Solar 1, LLC.

Description: Baseline eTariff Filing: Rate Schedule for Reactive Supply and Voltage Control Services to be effective 1/15/2023.

Filed Date: 12/14/22.

Accession Number: 20221214-5036.

Comment Date: 5 p.m. ET 1/4/23.

Docket Numbers: ER23-629-000.

Applicants: Public Service Company of Colorado.

Description: § 205(d) Rate Filing: 2022-12-14 Att N Revisions 0.10.0 to be effective 3/9/2023.

Filed Date: 12/14/22.

Accession Number: 20221214-5076.

Comment Date: 5 p.m. ET 1/4/23.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 14, 2022.
Debbie-Anne A. Reese,
Deputy Secretary.

[FR Doc. 2022-27623 Filed 12-19-22; 8:45 am]

BILLING CODE 6717-01-P